DEPARTMENT OF ENERGY

Federal Energy Regulatory Commission

[Docket No. EL21-73-000]

Edgecombe Solar Energy LLC v. Duke Energy Progress, LLC, Duke Energy Carolinas, LLC, and Duke Energy Florida, LLC; Notice of Complaint

Take notice that on May 12, 2021, pursuant to sections 206 and 306, of the Federal Power Act, 16 U.S.C. 824e and 825e and Rule 206 of the Federal Energy Regulatory Commission's (Commission) Rules of Practice and Procedure, 18 CFR 385.206 (2020), Edgecombe Solar Energy LLC (Complainant) filed a formal complaint against Duke Energy Progress, LLC, Duke Energy Carolinas, LLC and Duke Energy Florida, LLC (collectively, Duke Companies or Respondents) requesting that the Commission direct the Duke Companies to revise their Affected System Operator Agreement form to include the Commission's required provisions providing for reimbursement of Network Upgrades that the Duke Companies construct in their role of Affected System Operators,¹ as more fully explained in the complaint.

¹ An Affected System means an electric system other than the Transmission Provider's Transmission System that may be affected by the proposed interconnection. An Affected System Operator shall mean the entity that operates an Affected System. See pro forma Large Generator Interconnection Agreement, Art. 1 (“LGIA Definitions”), available at https://www.ferc.gov/sites/default/files/2020-04/LGIA-agreement.pdf. Other capitalized terms in this document have the meaning set forth in the Commission's pro forma OATT.

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on June 1, 2021.

Dated: May 13, 2021.
Debbie-Anne A. Reese,
Deputy Secretary.

[FR Doc. 2021-10544 Filed 5-18-21; 8:45 am]

BILLING CODE 6717-01-P